SECURITIES AND EXCHANGE COMMISSION

[File No. 500-1]

In the Matter of Dawn Technologies, Inc., Distinctive Devices, Inc., Haber, Inc., and Independence Brewing Co.; Order of Suspension of Trading

June 14, 2011.

It appears to the Securities and Exchange Commission that there is a lack of current and accurate information concerning the securities of Dawn Technologies, Inc. because it has not filed any periodic reports since the period ended September 30, 1999.

It appears to the Securities and Exchange Commission that there is a lack of current and accurate information concerning the securities of Distinctive Devices, Inc. because it has not filed any periodic reports since the period ended September 30, 2004.

It appears to the Securities and Exchange Commission that there is a lack of current and accurate information concerning the securities of Haber, Inc. because it has not filed any periodic reports since the period ended May 31, 2007.

It appears to the Securities and Exchange Commission that there is a lack of current and accurate information concerning the securities of Independence Brewing Co. because it has not filed any periodic reports since the period ended March 31, 1999.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 14, 2011, through 11:59 p.m. EDT on June 27, 2011.

By the Commission.
Jill M. Peterson,
Assistant Secretary.

[FR Doc. 2011-15055 Filed 6-14-11; 4:15 pm]

BILLING CODE 8011-01-P